DEPARTMENT OF THE INTERIOR

Fish and Wildlife Service

[FWS-R5-R-2013-N065; BAC-4311-K9-S3]

Prime Hook National Wildlife Refuge, Sussex County, DE; Record of Decision for Final Environmental Impact Statement

AGENCY: Fish and Wildlife Service, Interior.

ACTION: Notice of availability; final comprehensive conservation plan and record of decision.

SUMMARY: We, the U.S. Fish and Wildlife Service (Service), announce the availability of the final comprehensive conservation plan (CCP) and record of decision (ROD) for Prime Hook National Wildlife Refuge (NWR). We completed a thorough analysis of the environmental, social, and economic considerations and presented it in our final CCP and environmental impact statement (EIS), which we released to the public on December 28, 2012. The ROD documents our decision to implement alternative B, as described in the final CCP/EIS. The Regional Director, U.S. Fish and Wildlife Service, Northeast Region, signed the ROD on March 29, 2013. We will begin implementation of the CCP immediately.

ADDRESSES: You may view or obtain copies of the final CCP and ROD by any of the following methods:

Agency Web site: Download a copy of the document at http://www.fws.gov/northeast/planning/Prime%20Hook/ccphome.html.

Email: Send requests to northeastplanning@fws.gov. Include “Prime Hook NWR” in the subject line of your email.

U.S. Mail: Thomas Bonetti, Natural Resource Planner, U.S. Fish and Wildlife Service, 300 Westgate Center Drive, Hadley, MA 01035.

Fax: Attention: Thomas Bonetti, 413-253-8468.

In-Person Viewing or Pickup: Call 302-684-8419 to make an appointment (necessary for view/pickup only) during regular business hours at Prime Hook NWR, 11978 Turkle Pond Road, Milton, DE 19968.

FOR FURTHER INFORMATION CONTACT: Thomas Bonetti, Natural Resource Planner, 413-253-8307 (phone); northeastplanning@fws.gov (email).

SUPPLEMENTARY INFORMATION:

Introduction

With this notice, we finalize the CCP process for Prime Hook NWR. We began this process through a notice of intent in the Federal Register (70 FR 60365) on October 17, 2005. On May 9, 2011, we announced our decision to prepare an EIS in conjunction with the CCP, rather than an environmental assessment (76 FR 26751). On May 31, 2012, we released the draft CCP/EIS for public review and comments (77 FR 32131). We subsequently extended the public comment period (77 FR 47435) on August 8, 2012. We released the final CCP/EIS for public review on December 28, 2012 (77 FR 76510).

In the draft and final CCP/EIS, we evaluated three alternatives for managing the refuge and completed a thorough analysis of the environmental, social, and economic considerations of each alternative. Based on comments received on the draft CCP/EIS, we made minor modifications to alternative B, the Service's preferred alternative in the final CCP/EIS. During the public review period for the final CCP/EIS, we did not receive any comments that raised significant new issues, resulted in changes to our analysis, or warranted any further changes to alternative B.

In accordance with National Environmental Policy Act (NEPA) (40 CFR 1506.6(b)) requirements, this notice announces our decision to select alternative B for implementation and the availability of the ROD and final CCP for Prime Hook NWR. Alternative B, as described in the final CCP, will guide our management and administration of the refuge over the next 15 years.

Background

The CCP Process

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and goals and contributing to the mission of the National Wildlife Refuge System (NWRS). CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Prime Hook NWR

In 1963, Prime Hook NWR was established under the authority of the Migratory Bird Conservation Act “for use as an inviolate sanctuary, or any other management purpose, expressly for migratory birds.” It was established primarily to preserve coastal wetlands as wintering and breeding habitat for migratory waterfowl. The 10,144-acre refuge stretches along the west shore of Delaware Bay and is located 22 miles southeast of Dover, Delaware. Eighty percent of the refuge is tidal and freshwater wetlands that flow into the Delaware Bay and surrounding coastal marshes. The remaining 20 percent of the refuge consists of upland habitats that abut intensive agricultural and residential developments.

CCP Alternatives

During the scoping phase of the planning process, we identified the following list of major issues based on input from the public, State or Federal agencies, other Service programs, and our planning team: Climate change, sea level rise, refuge marshes, habitat and wildlife species management, mosquito control, hunting and other public uses, and nuisance and invasive species control. We developed refuge management alternatives to address these issues; help achieve refuge goals, objectives, and purposes; and support the NWRS mission. Our draft CCP/EIS (77 FR 32131) and final CCP/EIS (77 FR 76510) fully analyze three alternatives for the future management of the refuge: (1) Alternative A, Current Management; (2) Alternative B, Service-preferred Alternative; and (3) Alternative C, Historic Habitat Management. Alternative A satisfies the NEPA requirement of a “No Action” alternative. Both the draft and final plans identify alternative B as the Service-preferred alternative. Please refer to the final CCP/EIS for more details on each of the alternatives.

Basis for Selected Alternative

Our decision is to adopt alternative B, as described in the final CCP. We provide a brief summary of our decision below. For the full basis of our decision, please see the ROD (see ADDRESSES).

We determined that, compared to the other two alternatives, alternative B includes the suite of actions that best meet the purpose of, and need for, the CCP; achieve refuge purposes and goals; contribute toward the mission of the NWRS; address the relevant issues, concerns, and opportunities identified in the planning process; and protect, preserve, and enhance natural resources on the refuge. Alternative B is also consistent with the sound principles of fish and wildlife and fulfills our statutory and regulatory guidance.

We believe that alternative B uses the most balanced and integrated approach to refuge management, with due consideration for both the biological and human environment. Alternative B will best fulfill the refuge's biological goals, by emphasizing management for particular Federal trust species and habitats that are of regional conservation concern. Alternative B would also best restore the natural ecology and hydrology of Prime Hook's barrier island and marsh system and provide valuable ecosystem services, such as storm surge protection and flood protection. Compared to the other alternatives, our proposal under alternative B to restore refuge impoundments to healthy, self-sustaining brackish marsh and salt marsh will encourage the conditions most resilient to sea level rise; have sustainable, long-term benefits to neighboring human communities; and provide valuable habitat for waterfowl, songbirds, waterbirds, shorebirds, and other wildlife. Alternative B will also best enhance visitor services by expanding access to facilities and opening new trails for wildlife observation, photography, interpretation, environmental education, hunting, and fishing, and modifying the hunting program for greater administrative efficiency.

In summary, we selected alternative B for implementation because it provides the greatest opportunities for Prime Hook NWR to contribute to the conservation of fish, wildlife, and habitat in the region; will increase the capacity of the refuge to meet its purposes and contribute to the NWRS mission; and will provide the means to better respond to changing ecological conditions within the surrounding environment.

Public Availability of Documents

You can view or obtain the final CCP and ROD as indicated under ADDRESSES.

Dated: April 19, 2013.
Sherry W. Morgan,
Acting Regional Director, Northeast Region.

[FR Doc. 2013-09754 Filed 4-26-13; 8:45 a.m.]

BILLING CODE 4310-55-P